FEDERAL COMMUNICATIONS COMMISSION

47 CFR Parts 2 and 87

[WT Docket No. 01-289; FCC 06-148]

Aviation Communications

AGENCY: Federal Communications Commission.

ACTION: Final rule.

SUMMARY: In this document, the Federal Communications Commission (Commission or FCC) addresses a number of important issues pertaining to the Aviation Radio Services, amending its frequency allocation and radio treaty matters and aviation services rules to ensure that they remain up-to-date and continue to further the Commission's goals of accommodating new technologies, facilitating the efficient and effective use of the aeronautical spectrum, avoiding unnecessary regulation, and, above all, enhancing the safety of flight. In many cases these rule amendments also promote public safety generally and improve our homeland security.

DATES: Effective February 5, 2007.

FOR FURTHER INFORMATION CONTACT: Jeffrey Tobias, Jeff.Tobias@FCC.gov, Mobility Division, Wireless Telecommunications Bureau, (202) 418-1617, or TTY (202) 418-7233.

SUPPLEMENTARY INFORMATION: This is a summary of the Federal Communications Commission's Second Report and Order in WT Docket No. 01-289 (Second Report and Order), FCC 06-148, adopted on October 4, 2006, and released on October 10, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The Second Report and Order addresses issues raised in the Further Notice of Proposed Rule Making (FNPRM) in this WT Docket No. 01-289 proceeding. The Commission takes the following significant actions in the Second Report and Order: (i) Authorizes the use of Universal Access Transceiver (UAT) technology on the frequency 978 MHz; (ii) declines to adopt any immediate changes to the part 87 rules governing the Aeronautical Mobile Satellite (Route) Service (AMS(R)S) with respect to technical flexibility, the licensing of AMS(R)S in additional frequency bands under part 87, or priority and preemptive access for AMS(R)S communications vis-vis public correspondence communications and other non-safety-related Mobile Satellite Service (MSS) communications; (iii) removes all of the former Civil Air Patrol (CAP) channels from the table of frequencies available for assignment under part 87; (iv) removes allocations for radionavigation in the 14000-14400 MHz band; (v) streamlines the listing of high frequency (HF) channels in the table of frequencies available for assignment under part 87; (vi) provides the Federal Aviation Administration (FAA) with greater flexibility in the use of air traffic control (ATC) frequencies; (vii) declines to adopt rules that would authorize a new type of emergency locator transmitter (ELT) designed to operate on the frequency 121.5 MHz; (viii) adopts rules permitting use of an alternative station identification format by aircraft that are being moved by maintenance personnel from one airport location to another; (ix) eliminates the rule authorizing the assignment of FCC control numbers to ultralight aircraft for station identification; and (x) declines at present to make any rule changes pertaining to the Plan for the Security Control of Air Traffic and Air Navigation Aids (SCATANA).

I. Procedural Matters

A. Paperwork Reduction Act Analysis

2. The Second Report and Order does not contain any new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

B. Report to Congress

3. The Commission will send a copy of this Second Report and Order in a report to Congress and the Government Accountability Office pursuant to the Congressional Review Act, see 5 U.S.C. 801(a)(1)(A).

C. Final Regulatory Flexibility Analysis

4. As required by the Regulatory Flexibility Act of 1980, as amended (RFA), an Initial Regulatory Flexibility Analysis (IRFA) was incorporated in the FNPRM in this proceeding. The Commission sought written public comment on the proposals in the FNPRM, including comment on the IRFA. This present Final Regulatory Flexibility Analysis (FRFA) conforms to the RFA.

Need for, and Objectives of, the Report and Order

5. The rules adopted in the Second Report and Order are intended to ensure that the Commission's part 87 rules governing the Aviation Radio Service remain up-to-date and continue to further the Commission's goals of accommodating new technologies, facilitating the efficient and effective use of the aeronautical spectrum, avoiding unnecessary regulation, and, above all, enhancing the safety of flight. Specifically, in the Second Report and Order the Commission (a) authorizes the use of UAT technology on the frequency 978 MHz; (b) removes all of the former CAP channels from the table of frequencies available for assignment under part 87; (c) removes allocations for radionavigation in the 14000-14400 MHz band; (d) streamlines the listing of HF channels in the table of frequencies available for assignment under part 87; (e) provides the FAA with greater flexibility in the use of ATC frequencies; (f) declines to adopt rules that would authorize a new type of ELT designed to operate on the frequency 121.5 MHz; (g) codifies the terms of a waiver permitting use of an alternative station identification format by aircraft that are being moved by maintenance personnel from one airport location to another; (h) eliminates the rule authorizing the assignment of FCC control numbers to ultralight aircraft for station identification; and (i) declines at present to make any rule changes pertaining to the Plan for the Security Control of Air Traffic and Air Navigation Aids (SCATANA).

Summary of Significant Issues Raised by Public Comments in Response to the IRFA

6. No comments were submitted specifically in response to the IRFA. Nonetheless, we have considered the potential economic impact on small entities of the rules discussed in the IRFA, and we have considered alternatives that would reduce the potential economic impact on small entities of the rules enacted herein.

Description and Estimate of the Number of Small Entities to Which Rules Will Apply

7. The RFA directs agencies to provide a description of and, where feasible, an estimate of the number of small entities that may be affected by the rules adopted herein. The RFA defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

8. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this FRFA, therefore, the applicable definition of small entity is the definition under the SBA rules applicable to wireless service providers. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

9. Some of the rules adopted herein may also affect small businesses that manufacture aviation radio equipment. The Commission has not developed a definition of small entities applicable to aviation radio equipment manufacturers. Therefore, the applicable definition is that for Radio and Television Broadcasting and Wireless Communications Equipment Manufacturers. The Census Bureau defines this category as follows: “This industry comprises establishments primarily engaged in manufacturing radio and television broadcast and wireless communications equipment. Examples of products made by these establishments are: Transmitting and receiving antennas, cable television equipment, GPS equipment, pagers, cellular phones, mobile communications equipment, and radio and television studio and broadcasting equipment.” The SBA has developed a small business size standard for Radio and Television Broadcasting and Wireless Communications Equipment Manufacturing, which is: all such firms having 750 or fewer employees. According to Census Bureau data for 2002, there were a total of 1,041 establishments in this category that operated for the entire year. Of this total, 1,010 had employment of under 500, and an additional 13 had employment of 500 to 999. Thus, under this size standard, the majority of firms can be considered small.

Description of Projected Reporting, Recordkeeping, and Other Compliance Requirements for Small Entities

10. The Second Report and Order does not impose any additional reporting, recordkeeping, or other compliance requirements on small entities. The rule amendments adopted in the Second Report and Order generally either relieve licensees of pre-existing technical constraints or simply streamline and update the Commission's rules in a manner that will have no impact at all on regulatory compliance costs.

Steps Taken To Minimize the Significant Economic Impact on Small Entities, and Significant Alternatives Considered

11. The RFA requires an agency to describe any significant alternatives that it has considered in developing its approach, which may include the following four alternatives (among others): “(1) The establishment of differing compliance or reporting requirements or timetables that take into account the resources available to small entities; (2) the clarification, consolidation, or simplification of compliance and reporting requirements under the rule for such small entities; (3) the use of performance rather than design standards; and (4) an exemption from coverage of the rule, or any part thereof, for such small entities.”

12. As explained in section C of this FRFA, above, the Second Report and Order does not impose any additional reporting, recordkeeping, or other compliance requirements on small entities. In the Second Report and Order, the Commission discusses the possibility of further relaxing AMS(R)S technical requirements to accommodate non-Inmarsat satellite systems, and the Commission did consider, as one alternative, immediately amending the part 87 rules for that purpose. The Commission ultimately decided, however, that it would be prudent to seek further comment on this question, especially in light of the fact that the International Civil Aviation Organization (ICAO) has not yet adopted Standards and Recommended Practices for such AMS(R)S operations. Similarly, the Commission could have adopted part 87 licensing rules for AMS(R)S in the 1.6 GHz, 2 GHz, and 5 GHz frequency bands, subject to a requirement that satellite system operators accord priority and preemptive access to AMS(R)S communications over other types of communications. The Commission deferred a final decision on this matter, primarily to acquire additional information regarding whether such a priority and preemptive access requirement is truly necessary, and regarding the burden such a requirement may impose on MSS/AMS(R)S licensees.

F. Report to Congress

13. The Commission will send a copy of this Second Report and Order in WT Docket No. 01-289, including the Final Regulatory Flexibility Analysis, in a report to be sent to Congress pursuant to the Congressional Review Act. In addition, the Commission will send a copy of the Second Report and Order, including the Final Regulatory Flexibility Analysis, to the Chief Counsel for Advocacy of the SBA. A copy of the Second Report and Order and the Final Regulatory Flexibility Analysis (or summaries thereof) will also be published in the Federal Register.

List of Subjects

47 CFR Part 2

Communications equipment; Disaster assistance; Imports; Radio; Reporting and recordkeeping requirements; Telecommunications; Television; Wiretapping and electronic surveillance.

47 CFR Part 87

Air transportation; Civil defense; Communications equipment; Defense communications; Radio; Reporting and recordkeeping requirements; Weather.

Federal Communications Commission.
Marlene H. Dortch,
Secretary.

Rule Changes

For the reasons discussed in the preamble, the Federal Communications Commission amends 47 CFR parts 2 and 87 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Revise pages 29 and 46.

b. In the list of United States (US) Footnotes, remove footnote US292 and add footnote US400.

The revisions and additions read as follows:

§ 2.106 Table of Frequency Allocations.

* * * * *

BILLING CODE 6712-01-P

BILLING CODE 6712-01-C

United States (US) Footnotes

* * * * *

US400 The use of the center frequency 978 MHz may be authorized to Universal Access Transceiver (UAT) stations on a primary basis for the specific purpose of transmitting datalink information in support of the Automatic Dependent Surveillance—Broadcast (ADS-B) Service, Traffic Information Services—Broadcast (TIS-B), and Flight Information—Broadcast (FIS-B).

* * * * *

PART 87—AVIATION SERVICES

3. The authority citation for part 87 continues to read as follows:

Authority: 47 U.S.C. 154, 303 and 307(e), unless otherwise noted.

4. Amend § 87.5 by adding entries in alphabetical order for “Automatic Dependent Surveillance—Broadcast (ADS-B) Service,” “Traffic Information Services—Broadcast (TIS-B) Service” and “Universal Access Transceiver (UAT)” to read as follows:

§ 87.5 Definitions.

* * * * *

Automatic Dependent Surveillance—Broadcast (ADS-B) Service. Broadcast transmissions from aircraft, supporting aircraft-to-aircraft or aircraft-to-ground surveillance applications, including position reports, velocity vector, intent and other relevant information about the aircraft.

* * * * *

Traffic Information Services—Broadcast (TIS-B). Traffic information broadcasts derived from ground-based radar systems.

Universal Access Transceiver (UAT). A radio datalink system authorized to operate on the frequency 978 MHz to support Automatic Dependent Surveillance—Broadcast (ADS-B) Service, Traffic Information Services—Broadcast (TIS-B) and Flight Information Service—Broadcast (FIS-B).

* * * * *

5. Amend § 87.107 by removing paragraph (a)(2), redesignating paragraphs (a)(3) through (a)(5) as (a)(2) through (a)(4), and revising newly designated paragraph (a)(2) to read as follows:

§ 87.107 Station identification.

(a) * * *

(2) The type of aircraft followed by the characters of the registration marking (“N” number) of the aircraft, omitting the prefix letter “N.” When communication is initiated by a ground station, an aircraft station may use the type of aircraft followed by the last three characters of the registration marking. Notwithstanding any other provision of this section, an aircraft being moved by maintenance personnel from one location in an airport to another location in that airport may be identified by a station identification consisting of the name of the company owning or operating the aircraft, followed by the word “Maintenance” and additional alphanumeric characters of the licensee's choosing.

* * * * *

6. Amend § 87.137 by amending the table in paragraph (a) to add an entry for F1D and footnote 18 to read as follows:

§ 87.137 Types of emission.

(a) * * *

Class of emission | Emission designator | Authorized bandwidth (kilohertz): Below 50 MHz | Authorized bandwidth (kilohertz): Above 50 MHz ¹⁶ | Authorized bandwidth (kilohertz): Frequency deviation
* * * * * * *
F1D¹⁸ | 1M30F1D |  | 1300 kHz | 312.5 kHz
* * * * * * *
* * * * *
¹⁸ Authorized only for Universal Access Transceiver use at 978 MHz.

* * * * *

7. Amend § 87.139 by adding paragraph (l) to read as follows:

§ 87.139 Emission limitations.

* * * * *

(l)(1) For Universal Access Transceiver transmitters, the average emissions measured in a 100 kHz bandwidth must be attenuated below the maximum emission level contained within the authorized bandwidth by at least:

Frequency (MHz) | Attenuation (dB)
+/−0.5 | 0
+/−1.0 | 18
+/−2.25 | 50
+/−3.25 | 60

(2) Universal Access Transceiver transmitters with an output power of 5 Watts or more must limit their emissions by at least 43 + 10 log (P) dB on any frequency removed from the assigned frequency by more than 250% of the authorized bandwidth. Those emissions shall be measured with a bandwidth of 100 kHz. P in the above equation is the average transmitter power measured within the occupied bandwidth in Watts.

(3) Universal Access Transceiver transmitters with less than 5 Watts of output power must limit their emissions by at least 40 dB relative to the carrier peak on any frequency removed from the assigned frequency by more than 250% of the authorized bandwidth. Those emissions shall be measured with a bandwidth of 100 kHz.

8.Amend § 87.141 by adding paragraph (k) to read as follows:

§ 87.141 Modulation requirements.

* * * * *

(k) Universal Access Transceiver transmitters must use F1D modulation without phase discontinuities.

9. Amend § 87.171 by adding in alphabetical order the symbol and class of station “UAT—Universal Access Transceiver” to read as follows:

§ 87.171 Class of station symbols.

* * * * *

UAT—Universal Access Transceiver

10. Amend § 87.173 by revising the table in paragraph (b) to read as follows:

§ 87.173 Frequencies.

* * * * *

(b) Frequency table:

Frequency or frequency band | Subpart | Class of station | Remarks
90-110 kHz | Q | RL | LORAN “C”.
190-285 kHz | Q | RLB | Radiobeacons.
200-285 kHz | O | FAC | Air traffic control.
325-405 kHz | O | FAC | Air traffic control.
325-435 kHz | Q | RLB | Radiobeacons.
410.0 kHz | F | MA | International direction-finding for use outside of United States.
457.0 kHz | F | MA | Working frequency for aircraft on over-water flights.
500.0 kHz | F | MA | International calling and distress frequency for ships and aircraft on over-water flights.
510-535 kHz | Q | RLB | Radiobeacons.
2182.0 kHz | F | MA | International distress and calling.
2648.0 kHz | I | AX | Alaska station.
2850.0-3025.0 kHz | I | MA, FAE | International HF.
2851.0 kHz | I, J | MA, FAE, FAT | International HF; Flight Test.
2866.0 kHz | I | MA, FAE | Domestic HF; (Alaska).
2875.0 kHz | I | MA, FAE | Domestic HF.
2878.0 kHz | I | MA1, FAE | Domestic HF; International HF.
2911.0 kHz | I | MA, FAE | Domestic HF.
2956.0 kHz | I | MA, FAE | Domestic HF.
3004.0 kHz | I, J | MA, FAE, FAT | International HF; Flight Test.
3019.0 kHz | I | MA1, FAE | Domestic HF; International HF.
3023.0 kHz | F, M, O | MA1, FAR, FAC | Search and rescue communications.
3281.0 kHz | K | MA, FAS | Lighter-than-air craft and aeronautical stations serving lighter-than-air craft.
3400.0-3500.0 kHz | I | MA, FAE | International HF.
3434.0 kHz | I | MA1, FAE | Domestic HF.
3443.0 kHz | J | MA, FAT | Flight Test.
3449.0 kHz | I | MA, FAE | Domestic HF.
3470.0 kHz | I | MA, FAE | Domestic HF; International HF.
4125.0 kHz | F | MA | Distress and safety with ships and coast stations.
4550.0 kHz | I | AX | Gulf of Mexico.
4645.0 kHz | I | AX | Alaska.
4650.0-4700.0 kHz | I | MA, FAE | International HF.
4672.0 kHz | I | MA1, FAE | Domestic HF.
4947.5 kHz | I | AX | Alaska.
5036.0 kHz | I | AX | Gulf of Mexico.
5122.5 kHz | I | AX | Alaska.
5167.5 kHz | I | FA | Alaska emergency.
5310.0 kHz | I | AX | Alaska.
5450.0-5680.0 kHz | I | MA, FAE | International HF.
5451.0 kHz | J | MA, FAT | Flight Test.
5463.0 kHz | I | MA1, FAE | Domestic HF.
5469.0 kHz | J | MA, FAT | Flight Test.
5472.0 kHz | I | MA, FAE | Domestic HF.
5484.0 kHz | I | MA, FAE | Domestic HF.
5490.0 kHz | I | MA, FAE | Domestic HF.
5496.0 kHz | I | MA, FAE | Domestic HF.
5508.0 kHz | I | MA1, FAE | Domestic HF.
5571.0 kHz | J | MA, FAT | Flight Test.
5631.0 kHz | I | MA, FAE | Domestic HF.
5680.0 kHz | F, M, O | MA1, FAC, FAR | Search and rescue communications.
5887.5 kHz | I | AX | Alaska.
6525.0-6685.0 kHz | I | MA, FAE | International HF.
6550.0 kHz | J | MA, FAT | Flight Test.
6580.0 kHz | I | MA, FAE | Domestic HF.
6604.0 kHz | I | MA, FAE | Domestic HF.
8015.0 kHz | I | AX | Alaska.
8364.0 kHz | F | MA | Search and rescue communications.
8815.0-8965.0 kHz | I | MA, FAE | International HF.
8822.0 kHz | J | MA, FAT | Flight Test.
8855.0 kHz | I | MA, FAE | Domestic HF; international HF.
8876.0 kHz | I | MA, FAE | Domestic HF.
10005.0-10100.0 kHz | I | MA, FAE | International HF.
10045.0 kHz | J | MA, FAT | Flight Test.
10066.0 kHz | I | MA, FAE | Domestic HF; international HF.
11275.0-11400.0 kHz | I | MA, FAE | International HF.
11288.0 kHz | J | MA, FAT | Flight Test.
11306.0 kHz | J | MA, FAT | Flight Test.
11357.0 kHz | I | MA, FAE | Domestic HF.
11363.0 kHz | I | MA, FAE | Domestic HF.
13260.0-13360.0 kHz | I | MA, FAE | International HF.
13312.0 kHz | I, J | MA, FAE, FAT | International HF; Flight Test.
17900.0-17970.0 kHz | I | MA, FAE | International HF.
17964.0 kHz | J | MA, FAT | Flight Test.
21924.0-22000.0 kHz | I | MA, FAE | International HF.
21931.0 kHz | J | MA, FAT | Flight Test.
72.020-75.980 MHz | P | FA, AXO | Operational fixed; 20 kHz spacing.
75.000 MHz | Q | RLA | Marker beacon.
108.000 MHz | Q | RLT |
108.000-117.950 MHz | Q | RLO | VHF omni-range.
108.000-117.975 MHz | Q | DGP | Differential GPS.
108.050 MHz | Q | RLT |
108.100-111.950 MHz | Q | RLL | ILS Localizer.
108.100 MHz | Q | RLT |
108.150 MHz | Q | RLT |
118.000-121.400 MHz | O | MA, FAC, FAW, GCO, RCO, RPC | 25 kHz channel spacing.
121.500 MHz | G, H, I, J, K, M, O | MA, FAU, FAE, FAT, FAS, FAC, FAM, FAP | Emergency and distress.
121.600-121.925 MHz | O, L, Q | MA, FAC, MOU, RLT, GCO, RCO, RPC | 25 kHz channel spacing.
121.950 MHz | K | FAS |
121.975 MHz | F | MA2, FAW, FAC, MOU | Air traffic control operations.
122.000 MHz | F | MA, FAC, MOU | Air carrier and private aircraft enroute flight advisory service provided by FAA.
122.025 MHz | F | MA2, FAW, FAC, MOU | Air traffic control operations.
122.050 MHz | F | MA, FAC, MOU | Air traffic control operations.
122.075 MHz | F | MA2, FAW, FAC, MOU | Air traffic control operations.
122.100 MHz | F, O | MA, FAC, MOU | Air traffic control operations.
122.125-122.675 MHz | F | MA2, FAC, MOU | Air traffic control operations; 25 kHz spacing.
122.700 MHz | G, L | MA, FAU, MOU | Unicom at airports with no control tower; Aeronautical utility stations.
122.725 MHz | G, L | MA, FAU, MOU | Unicom at airports with no control tower; Aeronautical utility stations.
122.750 MHz | F | MA2 | Private fixed wing aircraft air-to-air communications.
122.775 MHz | K | MA, FAS |
122.800 MHz | G, L | MA, FAU, MOU | Unicom at airports with no control tower; Aeronautical utility stations.
122.825 MHz | I | MA, FAE | Domestic VHF.
122.850 MHz | H, K | MA, FAM, FAS |
122.875 MHz | I | MA, FAE | Domestic VHF.
122.900 MHz | F, H, L, M | MA, FAR, FAM, MOU |
122.925 MHz | H | MA2, FAM
122.950 MHz | G, L | MA, FAU, MOU | Unicom at airports with control tower; Aeronautical utility stations.
122.975 MHz | G, L | MA, FAU, MOU | Unicom at airports with no control tower; Aeronautical utility stations.
123.000 MHz | G, L | MA, FAU, MOU | Unicom at airports with no control tower; Aeronautical utility stations.
123.025 MHz | F | MA2 | Helicopter air-to-air communications; Air traffic control operations.
123.050 MHz | G, L | MA, FAU, MOU | Unicom at airports with no control tower; Aeronautical utility stations.
123.075 MHz | G, L | MA, FAU, MOU | Unicom at airports with no control tower; Aeronautical utility stations.
123.100 MHz | M, O | MA, FAC, FAR |
123.125 MHz | J | MA, FAT | Itinerant.
123.150 MHz | J | MA, FAT | Itinerant.
123.175 MHz | J | MA, FAT | Itinerant.
123.200 MHz | J | MA, FAT |
123.225 MHz | J | MA, FAT |
123.250 MHz | J | MA, FAT |
123.275 MHz | J | MA, FAT |
123.300 MHz | K | MA, FAS |
123.325 MHz | J | MA, FAT |
123.350 MHz | J | MA, FAT |
123.375 MHz | J | MA, FAT |
123.400 MHz | J | MA, FAT | Itinerant.
123.425 MHz | J | MA, FAT |
123.450 MHz | J | MA, FAT |
123.475 MHz | J | MA, FAT |
123.500 MHz | K | MA, FAS |
123.525 MHz | J | MA, FAT |
123.550 MHz | J | MA, FAT |
123.575 MHz | J | MA, FAT |
123.6-128.8 MHz | O | MA, FAC, FAW, GCO, RCO, RPC | 25 kHz channel spacing.
128.825-132.000 MHz | I | MA, FAE | Domestic VHF; 25 kHz channel spacing.
132.025-135.975 MHz | O | MA, FAC, FAW, GCO, RCO, RPC | 25 kHz channel spacing.
136.000-136.400 MHz | O, S | MA, FAC, FAW, GCO, RCO, RPC | Air traffic control operations; 25 kHz channel spacing.
136.425 MHz | O, S | MA, FAC, FAW, GCO, RCO, RPC | Air traffic control operations.
136.450 MHz | O, S | MA, FAC, FAW, GCO, RCO, RPC | Air traffic control operations.
136.475 MHz | O, S | MA, FAC, FAW, GCO, RCO, RPC | Air traffic control operations.
136.500-136.875 MHz | I | MA, FAE | Domestic VHF; 25 kHz channel spacing.
136.900 MHz | I | MA, FAE | International and Domestic VHF.
136.925 MHz | I | MA, FAE | International and domestic VHF.
136.950 MHz | I | MA, FAE | International and domestic VHF.
136.975 MHz | I | MA, FAE | International and domestic VHF.
156.300 MHz | F | MA | For communications with ship stations under specific conditions.
156.375 MHz | F | MA | For communications with ship stations under specific conditions; Not authorized in New Orleans Vessel traffic service area.
156.400 MHz | F | MA | For communications with ship stations under specific conditions.
156.425 MHz | F | MA | For communications with ship stations under specific conditions.
156.450 MHz | F | MA | For communications with ship stations under specific conditions.
156.625 MHz | F | MA | For communications with ship stations under specific conditions.
156.800 MHz | F | MA | Distress, safety and calling frequency; For communications with ship stations under specific conditions.
156.900 MHz | F | MA | For communications with ship stations under specific conditions.
157.425 MHz | F | MA | For communications with commercial fishing vessels under specific conditions except in Great Lakes and St. Lawrence Seaway Areas.
243.000 MHz | F | MA | Emergency and distress frequency for use of survival craft and emergency locator transmitters.
328.600-335.400 MHz | Q | RLG | ILS glide path.
334.550 MHz | Q | RLT |
334.700 MHz | Q | RLT |
406.0-406.1 MHz | F, G, H, I, J, K, M, O | MA, FAU, FAE, FAT, FAS, FAC, FAM, FAP | Emergency and distress.
960-1215 MHz | F, Q | MA, RL, RNV | Electronic aids to air navigation.
978.000 MHz | F, L, Q | MA, MOU, UAT | Universal Access Transceivers.
| UAT |
| Q | RLT |
979.000 MHz | Q | RLT |
1030.000 MHz | Q | RLT |
1104.000 MHz | Q | RLT |
1300-1350 MHz | F, Q | MA, RLS | Surveillance radars and transponders.
1435-1525 MHz | F, J | MA, FAT | Aeronautical telemetry and telecommand operations.
1559-1610 MHz | Q | DGP | Differential GPS.
1559-1626.5 MHz | F, Q | MA, RL | Aeronautical radionavigation.
1646.5-1660.5 MHz | F | TJ | Aeronautical Mobile-Satellite (R).
2310-2320 MHz | J | MA, FAT | Aeronautical telemetry and telecommand operations.
2345-2395 MHz | J | MA, FAT | Aeronautical telemetry and telecommand operations.
2700-2900 MHz | Q | RLS, RLD | Airport surveillance and weather radar.
4200-4400 MHz | F | MA | Radio altimeters.
5000-5250 MHz | Q | MA, RLW | Microwave landing systems.
5031.000 MHz | Q | RLT |
5350-5470 MHz | F | MA | Airborne radars and associated airborne beacons.
8750-8850 MHz | F | MA | Airborne doppler radar.
9000-9200 MHz | Q | RLS, RLD | Land-based radar.
9300-9500 MHz | F, Q | MA | Airborne radars and associated airborne beacons.
13250-13400 MHz | F | MA | Airborne doppler radar.
15400-15700 MHz | Q | RL | Aeronautical radionavigation.
24750-25050 MHz | F, Q | MA, RL | Aeronautical radionavigation.
32300-33400 MHz | F, Q | MA, RL | Aeronautical radionavigation.

11. Amend § 87.187 by revising paragraphs (p), (q), and (x) and adding paragraph (ff) to read as follows:

§ 87.187 Frequencies.

* * * * *

(p) The frequency band 1435-1525 MHz is available on a primary basis and the frequency band 1525-1535 MHz is available on a secondary basis for telemetry and telecommand associated with the flight testing of aircraft, missiles, or related major components. This includes launching into space, reentry into the earth's atmosphere and incidental orbiting prior to reentry. The following frequencies are shared with flight telemetry mobile stations: 1444.5, 1453.5, 1501.5, 1515.5, and 1524.5 MHz. See § 87.303(d).

Note to paragraph (p): Aeronautical telemetry operations must protect mobile-satellite operations in the 1525-2535 MHz band and maritime mobile-satellite operations in the 1530-1535 MHz band.

(q) The frequencies in the band 1545.000-1559.000 MHz and 1646.500-1660.500 MHz are authorized for use by the Aeronautical Mobile-Satellite (R) Service. The use of the bands 1544.000-1545.000 MHz (space-to-Earth) and 1645.500-1646.500 MHz (Earth-to-space) by the Mobile-Satellite Service is limited to distress and safety operations. In the frequency bands 1549.500-1558.500 MHz and 1651.000-1660.000 MHz, the Aeronautical Mobile-Satellite (R) requirements that cannot be accommodated in the 1545.000-1549.500 MHz, 1558.500-1559.000 MHz, 1646.500-1651.000 MHz, and 1660.000-1660.500 MHz bands shall have priority access with real-time preemptive capability for communications in the Mobile-Satellite Service. Systems not interoperable with the Aeronautical Mobile-Satellite (R) Service shall operate on a secondary basis. Account shall be taken of the priority of safety-related communications in the Mobile-Satellite Service.

* * * * *

(x) The frequency bands 24450-24650 MHz, 24750-25050 MHz and 32300-33400 MHz are available for airborne radionavigation devices.

* * * * *

(ff) The frequency 978 MHz is authorized for Universal Access Transceiver data transmission.

12. Amend § 87.345 by adding paragraph (f) to read as follows:

§ 87.345 Scope of service.

* * * * *

(f) Transmissions by aeronautical utility mobile stations for Universal Access Transceiver service are authorized.

13. Amend § 87.349 by adding paragraph (e) to read as follows:

§ 87.349 Frequencies.

* * * * *

(e) The frequency 978.0 MHz is authorized for Universal Access Transceiver data transmission.

14. Amend § 87.421 by revising paragraph (c) to read as follows:

§ 87.421 Frequencies.

* * * * *

(c) Frequencies listed in the introductory paragraph of this section are available to control towers and RCOs for communications with ground vehicles and aircraft on the ground. The antenna heights shall be restricted to the minimum necessary to achieve the required coverage. Channel spacing is 25 kHz.

* * * * *

15. Amend § 87.475 by adding paragraph (b)(9) and revising paragraphs (c)(1) and (c)(2) to read as follows:

§ 87.475 Frequencies.

* * * * *

(b) * * *

(9) 978.0 MHz is authorized for Universal Access Transceiver service.

(c) * * *

(1) The frequencies set forth in § 87.187(c), (e) through (j), (r), (t), and (ff) and § 87.475(b)(6) through (b)(10), and (b)(12) may be assigned to radionavigation land test stations for the testing of aircraft transmitting equipment that normally operate on these frequencies and for the testing of land-based receiving equipment that operate with airborne radionavigation equipment.

(2) The frequencies available for assignment to radionavigation land test stations for the testing of airborne receiving equipment are 108.000 and 108.050 MHz for VHF omni-range; 108.100 and 108.150 MHz for localizer; 334.550 and 334.700 MHz for glide slope; 978 and 979 MHz (X channel)/1104 MHz (Y channel) for DME; 978 MHz for Universal Access Transceiver; 1030 MHz for air traffic control radar beacon transponders; and 5031.0 MHz for microwave landing systems. Additionally, the frequencies in paragraph (b) of this section may be assigned to radionavigation land test stations after coordination with the FAA. The following conditions apply:

(i) The maximum power authorized on the frequencies 108.150 and 334.550 MHz is 1 milliwatt. The maximum power authorized on all other frequencies is one watt.

(ii) The pulse repetition rate (PRR) of the 1030 MHz ATC radar beacon test set will be 235 pulses per second (pps) ±5pps.

(iii) The assignment of 108.000 MHz is subject to the condition that no interference will be caused to the reception of FM broadcasting stations and stations using the frequency are not protected against interference from FM broadcasting stations.

* * * * *

[FR Doc. 06-9541 Filed 12-5-06; 8:45 am]

BILLING CODE 6712-01-P